DEPARTMENT OF COMMERCE

International Trade Administration

[C-489-806]

Certain Pasta From Turkey: Final Results of Expedited Five-Year (“Sunset”) Review of the Countervailing Duty Order

AGENCY: Import Administration, International Trade Administration, Department of Commerce.

SUMMARY: On October 2, 2006, the Department of Commerce (“the Department”) published in the Federal Register the notice of initiation of the second five-year sunset review of the countervailing duty order on certain pasta (“pasta”) from Turkey, pursuant to section 751(c) of the Tariff Act of 1930, as amended (“the Act”). See Initiation of Five-year (“Sunset”) Reviews, 71 FR 57921 (October 2, 2006) (“Second Sunset Review”). The Department has conducted an expedited sunset review of this order pursuant to section 751(c)(3)(B) of the Act and 19 CFR 351.218(e)(1)(ii)(C)(2). As a result of this sunset review, the Department finds that revocation of the countervailing duty order is likely to lead to continuation or recurrence of a countervailable subsidy at the levels indicated in the “Final Results of Review” section of this notice.

EFFECTIVE DATE: February 5, 2007.

FOR FURTHER INFORMATION CONTACT: Audrey R. Twyman or Brandon Farlander, AD/CVD Operations, Office 1, Import Administration, International Trade Administration, U.S. Department of Commerce, 14th Street and Constitution Ave., NW., Washington, DC 20230; telephone: (202) 482-3534 or (202) 482-0182, respectively.

SUPPLEMENTARY INFORMATION:

Background

The countervailing duty order which covers pasta from Turkey was published in the Federal Register on July 24, 1996. See Notice of Countervailing Duty Order: Certain Pasta (“Pasta”) From Turkey, 61 FR 38546 (July 24, 1996). On October 2, 2006, the Department initiated the second sunset review of this order, pursuant to section 751(c) of the Act. See Second Sunset Review. The Department received a notice of intent to participate from the following domestic parties: A. Zerega's Sons, Inc.; American Italian Pasta Company; Dakota Growers Pasta Company, Inc.; New World Pasta Company; and Philadelphia Macaroni Company (collectively, “domestic interested parties”), within the deadline specified in 19 CFR 351.218(d)(1)(i). The companies claimed interested party status under section 771(9)(C) of the Act, as manufacturers of a domestic-like product in the United States.

The Department received a request for a 12-day extension of time from the Government of the Republic of Turkey (“GRT”) to submit its substantive response. The Department partially granted the GRT's request and extended the deadline for filing a substantive response to November 8, 2006. The same extension was also granted to the domestic interested parties, per their request. On November 8, 2006, the Department received complete substantive responses to the notice of initiation from the domestic interested parties and from the GRT.

The Department did not receive any substantive responses from Turkish producers or exporters of the merchandise covered by this order. Based on the fact that a government's response alone, normally, is not sufficient for full sunset reviews in which the orders are not done on an aggregate basis, we determined to conduct an expedited (120 day) sunset review of this order. See section 751(c)(3)(A) of the Act and 19 CFR 351.218(e)(1)(ii)(C)(2). See, e.g., Final Results of Expedited Sunset Reviews of Countervailing Duty Orders: Pure Magnesium and Alloy Magnesium from Canada, 70 FR 67140 (November 4, 2005). See also Letter to Robert Carpenter, Director, Office of Investigations, International Trade Commission, from Wendy Frankel, Director, Import Administration, Department of Commerce, regarding inadequate response to the notice of initiation from respondent interested parties (November 21, 2006); and Memorandum from Saliha Loucif, International Trade Compliance Analyst, to Susan Kuhbach, Office Director, Import Administration, Department of Commerce, regarding “Adequacy Determination of the Second Sunset Review of the Countervailing Duty Order on Certain Pasta from Turkey” (November 21, 2006).

On January 19, 2007, the Department placed the calculation of the all-others rate from the investigation onto the record of this sunset review and allowed parties to comment. We received comment from domestic interested parties and the GRT on January 24, 2007. No hearing was held because none was requested.

Scope of the Order

Covered by the order are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this order is typically sold in the retail market, in fiberboard or cardboard cartons or polyethylene or polypropylene bags, of varying dimensions.

Excluded from the order are refrigerated, frozen, or canned pastas, as well as all forms of egg pasta, with the exception of non-egg dry pasta containing up to two percent egg white.

The merchandise under review is currently classifiable under subheading 1902.19.20 of the Harmonized Tariff Schedule of the United States (“HTSUS”). Although the HTSUS subheading is provided for convenience and customs purposes, our written description of the scope of the order is dispositive.

Scope Ruling

To date, the Department has issued the following scope ruling:

On October 26, 1998, the Department self-initiated a scope inquiry to determine whether a package weighing over five pounds as a result of allowable industry tolerances may be within the scope of the countervailing duty order. On May 24, 1999, we issued a final scope ruling finding that, effective October 26, 1998, pasta in packages weighing or labeled up to (and including) five pounds four ounces is within the scope of the countervailing duty order. See Memorandum from John Brinkmann to Richard Moreland, dated May 24, 1999, which is on file in the Central Records Unit (“CRU”) in room B-099 of the main Department building.

Analysis of Comments Received

All issues raised in substantive responses by parties in this sunset review are addressed in the “Issues and Decision Memo for the Expedited Sunset Review of the Countervailing Duty Order on Certain Pasta from Turkey; Final Results,” (“Decision Memo”), from Stephen J. Claeys, Deputy Assistant Secretary for Import Administration, to David M. Spooner, Assistant Secretary for Import Administration, dated January 30, 2007, which is hereby adopted by this notice. The issues discussed in the Decision Memo include the likelihood of continuation or recurrence of a countervailable subsidy, the net countervailable subsidy rate likely to prevail if the order were revoked, and the nature of the subsidies.

Parties can find a complete discussion of all issues raised in this sunset review and the corresponding recommendation in this public memorandum which is on file in the CRU. In addition, a complete version of the Decision Memo can be accessed directly on the Department's Web page at http://ia.ita.doc.gov/frn/index.html. The paper copy and electronic version of the Decision Memo are identical in content.

Final Results of Review

The Department determines that revocation of the countervailing duty order on pasta from Turkey is likely to lead to continuation or recurrence of countervailable subsidies at the following countervailing duty rates:

Manufacturer/Exporter | Net Subsidy Rate (percent)
Filiz Gida Sanayi ve Ticaret | 3.03
Maktas Makarnacilik ve Ticaret/ Gidasa Gida San.Tic.A.S. 1 | 4.49
Oba Makarnacilik Sanayi ve Ticaret | 14.48
“All Others” | 10.25

Notification Regarding Administrative Orders

This notice also serves as the only reminder to parties subject to administrative protective orders (“APO”) of their responsibility concerning the return or destruction of proprietary information disclosed under APO in accordance with 19 CFR 351.305(a)(3). Timely notification of the return or destruction of APO materials or conversion to judicial protective order is hereby requested. Failure to comply with the regulations and terms of an APO is a violation which is subject to sanction.

We are issuing and publishing this determination and notice in accordance with sections 751(c), 752, and 777(i) of the Act.

Dated: January 30, 2007.
David M. Spooner,
Assistant Secretary for Import Administration.

[FR Doc. E7-1813 Filed 2-2-07; 8:45 am]

BILLING CODE 3510-DS-P